DEPARTMENT OF HEALTH AND HUMAN SERVICES

Health Resources and Services Administration

Agency Information Collection Activities: Proposed Collection: Public Comment Request; Information Collection Request Title: Generic Information Collection Request for Health Resources and Services Administration Stakeholder Gatherings

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate below or any other aspect of the ICR.

DATES: Comments on this ICR should be received no later than August 20, 2024.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Umbrella Generic Information Collection Request for Information Collections Related to HRSA Gatherings, OMB No. 0906-xxxx-New.

Abstract: HRSA conducts gatherings for various purposes, including conferences, meetings, workshops, webinars, trainings, communities of practice, focus groups, and other in-person or virtual gatherings for individuals and organizations that are interested in HRSA programs. To ensure that HRSA has sufficient information to plan, convene, administer, and evaluate the effectiveness of these gatherings, HRSA must collect information from potential attendees, such as contact information, organizational information, logistical information (e.g., preferred delivery methods), accommodation needs, and feedback about the gathering's content. Furthermore, HRSA may conduct a test of knowledge to see what attendees know about the subject matter before or during the meeting or focus group. After the gathering concludes, attendees may be asked to complete an evaluation form and/or a test of knowledge to measure the gathering's effectiveness. In some instances, attendees may also apply and/or submit an abstract for prescreening to be selected for attendance.

An illustrative, but not exhaustive, list of examples of standardized information collection activities related to HRSA gatherings include:

• Registration Forms: Information collected includes name, contact information, organization/affiliation, demographic information (age, race or ethnicity, occupation, and location), and attendee accommodation needs.

• Application Forms for panels, posters, or other presentation formats: For application forms, information collected also includes title, author(s), organization/affiliation, and presentation abstract, in addition to the information contained in the registration form.

• Focus Groups: Information collected includes attendee/presenter responses to standard questions regarding topics posed to smaller groups during HRSA gatherings.

• Pre-/Post-Gathering Forms: Information collected includes attendee/presenter preferences, feedback, pre-/post-meeting questions, and tests of knowledge in response to standard questions.

Need and Proposed Use of the Information: The purpose of collections under this umbrella generic information collection is to gather appropriate information to plan, administer, and evaluate HRSA gatherings. While HRSA can evaluate the general need for and the overall practical utility of such information collection in advance, HRSA may not be able to determine the details of the specific individual collections until a later time. The planning for these gatherings is often on a quick timeline and the standard timeline to comply with a full request under the Paperwork Reduction Act could inhibit HRSA's ability to collect information to inform these activities. The information collected is expected to be voluntary, low-burden, and uncontroversial. Therefore, an umbrella generic is requested to allow for quick turnaround requests for similar information collections related to these activities.

As this Generic Information Collection Request for HRSA Stakeholder Gatherings will focus on the awareness, understanding, attitudes, preferences, or experiences of HRSA customers or other stakeholders (e.g., funding recipients and their delivery partners, potential funding applicants) relating to existing or future services, products, or communication materials, the Fast Track Process should apply to this information collection. Therefore, HRSA requests OMB provide a response on individual generic information collections within 5 business days.

Likely Respondents: Attendees and presenters at HRSA conferences, meetings, workshops, webinars, trainings, communities of practice, and other in-person, virtual, or hybrid gatherings. Attendees and presenters may include HRSA funding recipients, individuals seeking to participate in a HRSA-funded program, members of the public who utilize HRSA-funded resources, contractors, researchers, and other members of the public. Responses to any information collections under this Generic Information Collection Request for HRSA Stakeholder Gatherings are not required to obtain or retain any benefit.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below. HRSA conducted this estimate based on reviewing burden estimates of forms from previous HRSA gatherings, which were approved under other Umbrella or Regular packages.

Total Estimated Annualized Burden Hours
Form name | Number of respondents | Number of responses per respondent | Total responses | Average burden per response (in hours) | Total burden hours
Registration Forms | 100,000 | 1 | 100,000 | 0.5 | 50,000
Applications | 10,000 | 1 | 10,000 | 1.0 | 10,000
Pre- and Post-Gathering Forms | 200,000 | 1 | 200,000 | 0.5 | 100,000
Focus Groups | 100,000 | 3 | 300,000 | 3.0 | 900,000
Total | 410,000 |  | 610,000 |  | 1,060,000

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-13666 Filed 6-20-24; 8:45 am]

BILLING CODE 4165-15-P